TENNESSEE VALLEY AUTHORITY

Meeting of the Regional Energy Resource Council

AGENCY: Tennessee Valley Authority (TVA).

ACTION: Notice of meeting.

SUMMARY: The TVA Regional Energy Resource Council (RERC) will hold a meeting on November 7, 2023, regarding regional energy related issues in the Tennessee Valley.

DATES: The meeting will be held in Tupelo, on Tuesday November 7, 2023, from 8 a.m. to 5 p.m. CT. RERC members are invited to attend the meeting in person. The name and address for the physical meeting location in Tupelo will be provided on the RERC website at www.tva.gov/rerc. The public is invited to view the meeting virtually or attend in person. A 1-hour public listening session for the public to present comments virtually or in person will be held November 7, 2023, at 2:00 p.m. CT. A link and instructions to view the meeting will be posted on TVA's RERC website at www.tva.gov/rerc.

ADDRESSES: The physical meeting location in Tupelo, Mississippi will be provided on the RERC website at www.tva.gov/rerc. The meeting will also be available virtually to the public. Instructions to view the meeting will be posted at www.tva.com/rerc prior to the meeting. Persons who wish to speak virtually during the public listening session must pre-register by 5:00 p.m. ET Friday, November 3, by emailing bhaliti@tva.gov. Anyone needing special accommodations should let the contact below know at least one week in advance.

FOR FURTHER INFORMATION CONTACT: Bekim Haliti, bhaliti@tva.gov or 931-349-1894.

SUPPLEMENTARY INFORMATION: The RERC was established to advise TVA on its energy resource activities and the priorities among competing objectives and values. Notice of this meeting is given under the Federal Advisory Committee Act (FACA), 5 U.S.C. 10.

The meeting agenda includes the following:

November 7

1. Welcome and Introductions

2. RERC and TVA Meeting Update

3. Introduction to TVA

4. IRP Overview

5. Valley Pathways Update

6. Utility of the Future Engagement and Outcomes

7. Public Listening Session

8. Discussion on “TVA's Energy System of the Future” for the benefit of TVA Board Members

The RERC will hear views of citizens by providing a 1-hour public comment session starting November 7 at 2:00 p.m. CT. Persons wishing to speak virtually must register by sending an email at bhaliti@tva.gov or by calling 931-349-1894 by 5:00 p.m. ET, on Friday, November 3, 2023, and will be called on during the public listening session for up to five minutes to share their views. Written comments are also invited and may be emailed to bhaliti@tva.gov.

Dated: September 28, 2023.
Melanie Farrell,
Vice President, External Stakeholders and Regulatory Oversight, Tennessee Valley Authority.

[FR Doc. 2023-22177 Filed 10-4-23; 8:45 am]

BILLING CODE 8120-08-P